DEPARTMENT OF HEALTH AND HUMAN SERVICES

Centers for Disease Control and Prevention

[60Day-20-20EN; Docket No. CDC-2019-0116]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “Identifying Information Needs and Communication Channels for Reaching At-Risk Populations During Emergencies”. This information collections aims to understand the preferences, needs, and challenges of persons with limited English proficiency (LEP) in accessing and understanding health protection information during an infectious disease emergency as well as persons who will likely help them navigate and understand health information during an outbreak: Family, physicians, staff at community-based organizations, and staff at local public health agencies.

DATES: CDC must receive written comments on or before March 23, 2020.

ADDRESSES: You may submit comments, identified by Docket No. CDC-2019-0116 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Identifying Information Needs and Communication Channels for Reaching At-Risk Populations During Emergencies—New—Center for Preparedness and Response (CPR), Centers for Disease Control and Prevention (CDC).

Background and Brief Description

Nearly one tenth of the United States population over age five, or more than 25.9 million people, have limited English proficiency (LEP). Persons with LEP are disproportionately vulnerable to negative health outcomes, particularly in infectious disease emergencies. Communicating with such persons quickly and effectively in an emergency is essential, as it can encourage them to take protective personal actions like hand-washing or vaccination. These actions can protect persons with LEP and their friends and family members while reducing the spread and scale of the outbreak.

Despite widespread recognition of risks for persons with LEP in outbreaks and the importance of effective emergency risk communication, current guidelines are insufficient. Further, the empirical evidence to develop such guidelines is extremely limited. There is little understanding of persons with LEP's communication needs in emergencies, particularly from their own perspective and in their own voice. There is little data about preferences for and trust in information sources, communication channels, or formats—particularly social media—nor data fully describing barriers in accessing information. There is also little discussion of how the sociocultural context or social determinants play a role. Without evidence-based guidelines that address such central issues, it can be extremely challenging to create a communication or behavior change strategy, drive related programming, or develop messages and materials. This is especially true in the high-pressure moments of infectious disease emergencies, where time is limited, the science is evolving, and organizations have competing priorities.

This research effort will provide CDC with information about the preferences, needs, and challenges of persons with LEP in accessing and understanding health protection information during an infectious disease emergency. The findings will be used to develop evidence-based emergency risk communication recommendations for CDC and state, local and territorial public health agencies. The results will be used to help ensure LEP-focused communications are effective, prevent delays, reduce inequities in health outcomes, and help contain infectious disease outbreaks that affect LEP communities and the broader public. The proposed study utilizes a rigorous mixed methods design. It incorporates views of persons with LEP through a survey (via mail, online, telephone, or in-person, depending on respondent preference) and qualitative, in-depth interviews (IDIs) (via telephone). It also incorporates the views of persons who will likely help persons with LEP navigate and understand health protection information during an infectious disease emergency: Family, physicians, and staff at community-based organizations and local public health agencies. IDIs will be conducted with each group (via telephone).

CDC is requesting a two-year approval for this information collection. The total annualized burden hour estimate is 369 burden hours. There is no cost to respondents other than their time.

Estimated Annualized Burden Hours
Type of respondents | Form name | Number of respondents | Number of responses per respondent | Average burden per response (in hours) | Total burden (in hours)
Persons with LEP | Persons with LEP—Survey | 637 | 1 | 20/60 | 212
Persons with LEP | Persons with LEP—IDIs | 44 | 1 | 1 | 44
Family members | Family members—IDIs | 44 | 1 | 1 | 44
Physicians | Physicians—IDIs | 33 | 1 | 1 | 33
CBO staff | CBO staff—IDIs | 18 | 1 | 1 | 18
LPHA staff | LPHA staff—IDIs | 18 | 1 | 1 | 18
Total |  |  |  |  | 369

Jeffery M. Zirger,
Lead, Information Collection Review Office, Office of Scientific Integrity, Office of Science, Centers for Disease Control and Prevention.

[FR Doc. 2020-01050 Filed 1-22-20; 8:45 am]

BILLING CODE 4163-18-P